DEPARTMENT OF HEALTH AND HUMAN SERVICES

Health Resources and Services Administration

National Advisory Council on Nurse Education and Practice; Notice of Meeting

SUMMARY: In accordance with section 10(a)(2) of the Federal Advisory Committee Act (Pub. L. 92-463), notice is hereby given of the following meeting of the National Advisory Council on Nurse Education and Practice (NACNEP).

DATES: July 28 and 29, 2015, 8:30 a.m.-5 p.m. EST.

ADDRESSES: This meeting will be via Webinar Format. U.S. Department of Health and Human Services, Health Resources and Services Administration, 5600 Fishers Lane, Rockville, Maryland 20857.

FOR FURTHER INFORMATION CONTACT: For additional information regarding NACNEP, please contact Jeanne Brown, Staff Assistant, National Advisory Council on Nurse Education and Practice, Parklawn Building, 5600 Fishers Lane, Rockville, Maryland 20857. The telephone number is: (301) 443-5688. The email is jbrown@hrsa.gov.

SUPPLEMENTARY INFORMATION:

Status: This advisory council meeting will be open to the public.

Purpose: The purpose of the 131st National Advisory Council on Nurse Education and Practice (NACNEP) meeting is to provide advice and recommendations on policy and program development related to the role of nursing in Interprofessional Education (IPE) and Practice. The purpose is to discuss existing IPE models in an academic setting and the intersect between education and practice as it relates to Health Care delivery reform. The goal of the meeting is to solicit recommendations for IPE in an academic setting and the intersect important to IPE and practice. Strengths, challenges, achievable solutions, and replicable models required and/or available to move from discussion to action will be identified. Additionally, the meeting will discuss topics for future work of the council. This meeting will conclude with a formulation of recommendations and form the basis for NACNEP's mandated Thirteenth Annual Report to the Secretary of the U.S. Department of Health and Human Services and Congress.

Agenda: A final agenda will be posted on the NACNEP Web site 3 days prior to the meeting. Agenda items are subject to change as priorities dictate.

Further information regarding NACNEP including the roster of members, reports to Congress, and minutes from previous meetings is available at the NACNEP Web site. Members of the public and interested parties may request to participate in the meeting by contacting Staff Assistant, Jeanne Brown. Access to the meeting will be granted on a first come, first-served basis and space is limited. Public participants may submit written statements in advance of the scheduled meeting. If you would like to provide oral public comment during the meeting you will need to register with Erin Fowler, Designated Federal Official (DFO). Public comment will be limited to 3 minutes per speaker and is tentatively scheduled for after lunch on the first day of the meeting. Statements and comments can be addressed to Erin Fowler. Please send by email to: nacnep@hrsa.gov.

Please be advised that committee members are given copies of all written statements submitted by the public prior to the meeting. Any further public participation will be at the discretion of the Chair, with approval of the DFO in attendance. Registration through the designated contact for the public comment session is required. Any member of the public who wishes to have printed materials distributed to the Advisory Group should submit materials to the point of contact no later than 12:00 p.m. EST on July 13, 2015.

Jackie Painter,
Director, Division of the Executive Secretariat.

[FR Doc. 2015-16135 Filed 7-6-15; 8:45 am]

BILLING CODE 4165-15-P